DEPARTMENT OF HOMELAND SECURITY

Coast Guard

33 CFR Part 165

[Docket No. USCG-2016-0054]

Eighth Coast Guard District Annual Safety Zones; Pittsburgh Pirates Fireworks; Allegheny River Mile 0.2 to 0.8; Pittsburgh, PA

AGENCY: Coast Guard, DHS.

ACTION: Notice of enforcement of regulation.

SUMMARY: The Coast Guard will enforce a safety zone for the Pittsburgh Pirates Fireworks on the Allegheny River, from mile 0.2 to 0.8, extending the entire width of the river to provide for the safety of life on navigable waters. This rule is effective following certain home games throughout the Major League Baseball season, including post-season home games if the Pittsburgh Pirates make the playoffs. During the enforcement period, entry into, transiting, or anchoring in the safety zone is prohibited to all vessels not registered with the sponsor as participants or official patrol vessels, unless specifically authorized by the Captain of the Port (COTP) Pittsburgh or a designated representative.

DATES: The regulations in 33 CFR 165.801 Table 1, Sector Ohio Valley, Line No. 1 will be enforced for the Pittsburgh Pirates Season Fireworks as identified in the SUPPLEMENTARY INFORMATION section below with dates and times.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the Safety Zone for the annual Pittsburgh Pirates Fireworks listed in 33 CFR 165.801 Table 1, Sector Ohio Valley, Line No. 1 from 8:45 p.m. to 11:59 p.m. on the following dates: April 16 and 30, May 19, June 11, July 21, August 20, September 8, and during the 3 hours following post-season home games, should the Pittsburgh Pirates make the playoffs, in October and November, 2016. Should inclement weather require rescheduling, the safety zone will be effective following games on a rain date to occur within 48 hours of the scheduled date. This action is being taken to provide for safety of life on navigable waters during a fireworks display taking place on and over the waterway. These regulations can be found in the Code of Federal Regulations, under 33 CFR 165.801. As specified in § 165.801, entry into the safety zone is prohibited unless authorized by the COTP or a designated representative. Persons or vessels desiring to enter into or passage through the safety zone must request permission from the COTP or a designated representative. If permission is granted, all persons and vessels shall comply with the instructions of the COTP or designated representative.

This notice of enforcement is issued under authority of 33 CFR 165.801 and 5 U.S.C. 552 (a). In addition to this notice in the Federal Register, the Coast Guard will provide the maritime community with advance notification of this enforcement period via Local Notice to Mariners and updates via Marine Information Broadcasts.

Dated: March 30, 2016.
L. McClain, Jr.,
Commander, U.S. Coast Guard, Captain of the Port Pittsburgh.

[FR Doc. 2016-09990 Filed 4-27-16; 8:45 am]

BILLING CODE 9110-04-P